DEPARTMENT OF HOMELAND SECURITY

U.S. Citizenship and Immigration Services

[CIS No. 2273-03]

Direct Mail Program for Submitting Form I-485, Application To Register Permanent Resident or Adjust Status; Form I-765, Application for Employment Authorization; and Form I-131, Application for Travel Document

AGENCY: U.S. Citizenship and Immigration Services, Department of Homeland Security.

ACTION: Notice.

SUMMARY: U.S. Citizenship and Immigration Services (USCIS) is expanding its Direct Mail Program to provide that certain filings of Form I-485, Application to Register Permanent Residence or Adjust Status; Form I-765, Application for Employment Authorization; and Form I-131, Application for Travel Document, be filed at a designated Chicago, Illinois lockbox facility for initial processing. The Direct Mail Program allows USCIS to more efficiently process applications through standardization, by eliminating duplicative work, maximizing staff productivity, and introducing better information management tools. USCIS intends for this Direct Mail rollout to be completed in a two-phased approach. Phase One will begin on December 1, 2004 and will affect certain aliens filing Form I-485, Form I-765, and Form I-131 who live in the states of Alabama, Arizona, Arkansas, Colorado, Connecticut, Delaware, Florida, Georgia, Hawaii, Illinois, Indiana, Kentucky, Louisiana, Maine, Massachusetts, Michigan, Minnesota, Mississippi, Nevada, New Hampshire, New Jersey, New York, North Carolina, North Dakota, Ohio, Pennsylvania, Rhode Island, South Carolina, South Dakota, Tennessee, Utah, Vermont, Virginia, West Virginia, Wisconsin, Wyoming, as well as the District of Columbia, Guam, Puerto Rico, and the Virgin Islands of the United States. Phase Two will begin on April 1, 2005 and will affect certain aliens filing Form I-485, Form I-765, and Form I-131 residing in: Alaska, California, Idaho, Iowa, Kansas, Maryland, Missouri, Montana, Nebraska, New Mexico, Oklahoma, Oregon, Texas, and Washington.

DATES: This notice is effective December 1, 2004.

FOR FURTHER INFORMATION CONTACT: S. Rebecca Watson, Lockbox Project Manager, U. S. Citizenship and Immigration Services, Department of Homeland Security, 20 Massachusetts Avenue, NW, Room 1000, Washington, DC 20529, Telephone (202) 272-1001.

SUPPLEMENTARY INFORMATION:

Background

What is the Direct Mail program?

The purpose and strategy of the Direct Mail program have been discussed in detail in previous rulemaking and notices (see 59 FR 33903, 59 FR 33985, 60 FR 22408, 61 FR 2266, 61 FR 56060, 62 FR 16607, 63 FR 891, 63 FR 892, 63 FR 13434, 63 FR 13878, 63 FR 16828, 63 FR 50584, 63 FR 8688, 63 FR 8689, 64 FR 67323, 69 FR 3380, and 69 FR 4210).

Explanation of Changes

Does this notice make any changes relating to an alien's eligibility for adjustment of status, related employment authorization, or related travel authorization?

No. This notice affects only the address location where certain filings involving an adjustment of status application, employment authorization and travel authorization requests are to be mailed. These forms, previously filed at several locations nation-wide, will now be filed under the Direct Mail Program at one specific address in Chicago, IL.

Where may I find information related to eligibility requirements for Adjustment of Status applications?

Interested individuals may find eligibility requirements for all applications related to Adjustment of Status, Employment Authorization, and Travel Authorization at the USCIS Web site: http://www.uscis.gov.

Which aliens applying for adjustment of status does this notice affect?

This notice affects aliens residing in the United States who are filing Form I-485 under the following categories:

• Aliens who are immediate relatives of a U.S. citizen, as defined by section 201(b) of the Act, and are filing based upon an approved, concurrently filed, or pending Form I-130, Petition for Alien Relative;

• Aliens who are widow/widowers of a U.S. citizen, as described by section 201(b) of the Act;

• Aliens described by section 203(a) of the Act as the qualifying relative of a U.S. citizen or lawful permanent resident alien, and are filing based on an approved Form I-130;

• Aliens described by section 203(d) of the Act as the derivative relatives of aliens described by section 203(a) of the Act;

• Aliens described by section 101(a)(15)(K) of the Act as the fiancé(e) of a U.S. citizen or the minor child(ren) of such fiancé(e), and are filing based on an approved Form I-129F, Petition for Alien Fiancé(e);

• Aliens eligible for registry under section 249 of the Act;

• Aliens eligible under the Cuban Adjustment Act of November 2, 1965;

• Aliens described as special immigrants under sections 101(a)(27)(J), (K), and (I) of the Act;

• Aliens described as Amerasians under section 204(f) of the Act;

• Aliens who are beneficiaries of an approved Form I-360 as a battered spouse or child;

• Aliens who are beneficiaries of Private Bills;

• Aliens who are winners of the Diversity Visa lottery;

• Aliens from certain former Soviet and Southeast Asian countries who were paroled into the United States as public interest parolees and are eligible to adjust under Public Law 101-167, “the Lautenberg Amendment;”

• Aliens eligible under section 646 of the Illegal Immigration Reform and Immigrant Responsibility Act of 1996 (IIRIRA);

• Aliens eligible under section 13 of the Act of September 11, 1957; and

• Aliens eligible for creation of record under section 102 of the Act.

Which aliens applying for employment authorization will this notice affect?

USCIS is refining the processing of Form I-765 by requiring certain aliens to send their application packages, including all supporting evidence, to the Chicago lockbox facility. This Notice affects aliens residing in the United States, who are filing Form I-765, seeking employment authorization under 8 CFR 274a.12 in the following categories:

• (a)(10)—Aliens granted Withholding of Removal;

• (c)(9)—Aliens filing a family-based application for adjustment of status (Form I-485) who are presently required to file with the USCIS local office having jurisdiction over their place of residence;

• (c)(10)—Aliens granted Suspension of Deportation who are required to file with the USCIS Service Center having jurisdiction;

• (c)(11)—Aliens who are paroled into the United States temporarily for emergency reasons or the public interest;

• (c)(14)—Aliens granted deferred action;

• (c)(16)—Aliens who are filing for creation of record of lawful admission for permanent residence under section 249 of the Act; and

• (c)(18)—Aliens granted an Order of Supervision;

Which aliens applying for travel authorization will this notice affect?

USCIS is refining the processing of Form I-131 by requiring aliens seeking Advance Parole to send their application packages to the Chicago Lockbox facility. Part 2 of Form I-131 lists various application types for an alien to obtain a travel document. Only aliens who apply for an Advance Parole Document and fit the categories and criteria stated in this Notice must submit their Form I-131, and all supporting evidence, to the Chicago Lockbox facility.

To what address should aliens filing affected Form I-485, Form I-765, and Form I-131 send their application packages?

Effective December 1, 2004, those aliens described in Phase One as established by this Notice, and effective April 1, 2005, those aliens described in Phase Two, as established by this Notice, must send their Form I-485, and/or Form I-765, and/or Form I-131, and all supporting documentation for each application, directly to one of the following addresses: U. S. Citizenship and Immigration Services, P.O. Box 805887, Chicago, IL 60680-4120; or For non-United States Postal Service (USPS) deliveries (e.g. private couriers): U. S. Citizenship and Immigration Services, 427 S. LaSalle—3rd Floor, Chicago, IL 60605-1098.

USCIS notes that the above lockbox addresses are different than the Chicago USCIS offices located on West Jackson Boulevard, S. Dearborn, or at 539 S. La Salle.

Will the instructions to the Form I-485, Form I-765, and Form I-131 be changed?

USCIS is currently amending the instructions to Form I-485, Form I-765, and Form I-131, as well as the procedures listed on the USCIS website to reflect the new filing address. With the exception of the new filing address, all other filing procedures remain unchanged.

Does this notice affect the 90-day requirement to adjudicate the employment authorization application?

No. This Direct Mail Notice does not change the regulations contained in 8 CFR 274a.13(d).

What will happen to Form I-485, Form I-765, and Form I-131 covered by this notice that are filed at other USCIS locations?

During the first 30 days following the effective date of this notice, other USCIS offices will forward to the Chicago Lockbox address any filings of Form I-485, Form I-765, and Form I-131 they receive that are covered by this Notice. Applications forwarded from the other USCIS offices will be considered properly filed when receipted at the Lockbox.

After the 30-day transition period, any application-type mentioned in this Notice, received at a location other than the Lockbox address will be returned with an explanation directing the applicant to mail the application directly to the Chicago Lockbox address for processing.

Dated: November 16, 2004.
Eduardo Aguirre,
Director, U.S. Citizenship and Immigration Services.

[FR Doc. 04-25679 Filed 11-18-04; 8:45 am]

BILLING CODE 4410-10-P